DEPARTMENT OF THE TREASURY

Submission for OMB Review; Comment Request

May 9, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 15, 2006 to be assured of consideration.

Internal Revenue Service (IRS)

OMB Number: 1545-1996.

Type of Review: Extension.

Title: Notice 2006-05, Waiver for Reasonable Cause for Failure to Report Loan Origination Fees and Capitalized Interest.

Description: This Notice provides information to payees who receive payment of interest on qualified education loans who are unable to comply with the information reporting requirements under section 6050S of the Internal Revenue Code.

Respondents: Business or other for profit; Not-for-profit institutions; and Federal Government.

Estimated Total Burden Hours: 5,000 hours.

OMB Number: 1545-1504.

Type of Review: Extension.

Title: Application for Taxpayer Assistance Order (ATAO).

Form: IRS 911.

Description: This form is used by taxpayers to apply for relief from a significant hardship which may have already occurred or is about to occur if the IRS takes or fails to take certain actions. This form is submitted to the IRS Taxpayer Advocate Office in the state or city where the taxpayer lives.

Respondents: Individuals or households; Business or other for profit; Not-for-profit institutions; Farms; and State, Local or Tribal Government.

Estimated Total Burden Hours: 46,500 hours.

OMB Number: 1545-1828.

Type of Review: Extension.

Title: REG-131478-02 (Final) Guidance Under Section 1502; Suspension of Losses on Certain Stock Disposition.

Description: The information in § 1.1502-35T(c) is necessary to ensure that a consolidated group does not obtain more than one tax benefit from both the utilization of a loss from the disposition of stock and the utilization of a loss or deduction with respect to another asset that reflects the same economic loss; to allow the taxpayer to make an election under § 1.1502-35T(c)(5) that would benefit the taxpayer, the election in § 1.1502-35T(f) provides taxpayers the choice in the case of a worthless subsidiary to utilize a worthless stock deduction or absorb the subsidiary's losses; and § 1.1502-35T(g)(3) applies to ensure that taxpayers do not circumvent the loss suspension rule of § 1.1502-35T(c) by deconsolidating a subsidiary and then re-importing to the group losses of such subsidiary.

Respondents: Business or other for-profit.

Estimated Total Burden Hours: 15,000 hours.

OMB Number: 1545-1982.

Type of Review: Extension.

Title: Distilled Spirits Credit.

Form: IRS 8906.

Description: Form 8906, Distilled Spirits Credit, was developed to carry out the provisions of IRC section 5011(a). This section allows eligible wholesalers and persons subject to IRC section 5055 an income tax credit for the average cost of carrying excise tax on bottled distilled spirits. The new form provides a means for the eligible taxpayer to compute the amount of credit.

Respondents: Business or other for-profit.

Estimated Total Burden Hours: 588 hours.

Clearance Officer: Glenn P. Kirkland, Internal Revenue Service, Room 6516, 1111 Constitution Avenue, NW., Washington, DC 20224. (202) 622-3428.

OMB Reviewer: Alexander T. Hunt, Office of Management and Budget, Room 10235, New Executive Office Building, Washington, DC 20503. (202) 395-7316.

Michael A. Robinson,
Treasury PRA Clearance Officer.

[FR Doc. E6-7389 Filed 5-15-06; 8:45 am]

BILLING CODE 4830-01-P